FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

Freightcan Global Inc., 200 Middlesex Turnpike, Suite 208, Iselin, NJ 08830.

Officer: Padmini Prasad, President (Qualifying Individual).

Shipping Express Inc., 14435 157th Street, Jamaica, NY 11434.

Officers: Joseph Kawi Lau Au, Secretary, (Qualifying Individual), Li Ying (Lisa) Wong McClain, President.

T.J. Expediters Inc., 150-30 132nd Avenue, Suite 205, Jamaica, NY 11434.

Officers: Chi Young Hu, President (Qualifying Individual), Sunny Kwok Keung Ho, Vice President.

GCS Logistics Inc., 65 West Merrick Road, Valley Stream, NY 11580.

Officer: Jian Fu, President (Qualifying Individual).

Logistics Container Line, LLC, 45 Rason Road, Inwood, NY 11096.

Officer: Thomas McGeary, Managing Partner (Qualifying Individual).

Pack & Send Cargo, Inc., 5455 NW. 72nd Avenue, Miami, FL 33166.

Officer: Jorge Enrique Alvarez, President (Qualifying Individual).

Delta Trans Logistics, Inc., 131 W. Victoria Street, Gardena, CA 90248.

Officer: In Soo Eun, President (Qualifying Individual).

Mobility Express, LLC, 372 Chardonnay Drive, Suite 100, Salinas, CA 93906.

Officers: Roger Arreola, CEO (Qualifying Individual), Cresencia Arreola, Vice President.

TP Express, Inc., 1280 Louis Avenue, Elk Grove Village, IL 60007.

Officer: Young K. Park, President (Qualifying Individual).

La Onion Shipping Co, Inc., 1680 Jerome Avenue, Bronx, NY 10453.

Officer: Carlos Augusto Rivera, President (Qualifying Individual).

Servicarga of America, Inc., 4753 NW., 72nd Avenue, Miami, FL 33166.

Officer: Armando Ripepi, Vice President (Qualifying Individual).

Veco Logistics USA, Inc., 5573 NW. 72nd Avenue, Miami, FL 33166.

Officers: Angela Duran, Secretary (Qualifying Individual), Ivonne J. Jaspe, President.

Dal Investment, Inc., 2919 Rhode Island Avenue, NE., Washington, DC 20018.

Officers: Nojimudeen Adeleke, Vice President (Qualifying Individual), Lawal Abudulganiyu, President.

Non-Vessel—Operating Common Carrier and Ocean Freight Forwarder Transportation Intermediary Applicants

Saia Motor Freight Line, Inc., 11465 Johns Creek Parkway, Suite 400, Duluth, GA 30097.

Officer: Tony Albanese, Sen. Vice President (Qualifying Individual).

AGI-Link Cargo Int'l, LLC, 140 Kathi Avenue, Suite A, Fayetteville, GA 30214.

Officer: Arizona Y Li, President (Qualifying Individual).

Air Cargo Global, Corp., 993 McDonald Avenue, Brooklyn, NY 11230.

Officer: Sophie Persits, President (Qualifying Individual).

Apex Logistics International Inc., 9841 Airport Blvd., Suite 522, Los Angeles, CA 90045.

Officers: Liang Qian, Vice President (Qualifying Individual), Minjiang Song, CEO.

TMMAA Line Houston, Inc., 15550 Vickery Drive, Suite #100, Houston, TX 77032.

Officer: Sonia Bauserman, President (Qualifying Individual).

Global Galan Logistics Inc., 401 Broadway, 22 Floor, New York, NY 10013.

Officers: George A. Galan, President (Qualifying Individual), Carmen Galan Vizcaino, Vice President.

Ocean Freight Forwarder—Ocean Transportation Intermediary Applicants Anchor Customs Brokerage, LLC, 6156 Stockade Drive, Mechanicsville, VA 23111.

Officers: Karen L. Stone, Operations Manager (Qualifying Individual), David C. Stone, Managing Partner.

L.O. Trading Corp., 10800 NW 21st Street, Suite 250, Miami, FL 33172.

Officer: Luis Oberndorfer, President (Qualifying Individual).

Q-Air, Inc., 1227 Buschong, Houston, TX 77039.

Officers: Mary Frances Storemski, OPS (Qualifying Individual), Darrell W. Smith, President.

MVP Global Logistics, LLC, 440 McClellan Highway, Suite 105L, East Boston, MA 02128.

Officers: Patricia Strong, Member (Qualifying Individual), Victor P. Glowik, Member.

Dated: March 11, 2005.
Bryant L. VanBrakle,
Secretary.

[FR Doc. 05-5181 Filed 3-15-05; 8:45 am]

BILLING CODE 6730-01-P